DEPARTMENT OF THE INTERIOR

Bureau of Land Management

[223.LLHQ350000.L13400000.PQ0000]

Call for Nominations or Expressions of Interest for Solar Leasing Areas on Public Lands in the States of Colorado, New Mexico, and Nevada

AGENCY: Bureau of Land Management, Interior.

ACTION: Notice of call for nominations and expressions of interest.

SUMMARY: The Bureau of Land Management (BLM), State Offices in Colorado, New Mexico, and Nevada are soliciting written expressions of interest (EOIs) or Nominations identifying tracts of land (parcels) for solar project development within the following solar energy zones (SEZs) on public lands: Antonito Southeast SEZ, DeTilla Gulch SEZ, and Los Mogotes East SEZ within Colorado; Dry Lake Valley North SEZ, Gold Point SEZ, and Millers SEZ within Nevada; and Afton SEZ within New Mexico. These SEZs have a combined total land size of approximately 89,589 acres.

DATES: The BLM will accept written expressions of interest or nominations through January 20, 2022.

ADDRESSES: Hard-copy submission of written EOIs or Nominations must be submitted to the appropriate soliciting BLM office address listed as follows:

For solicitations by BLM Colorado, hard-copy submission of EOI or Nomination may be mailed to: BLM Colorado State Office, Attention: Benjamin Gruber, 2850 Youngfield St., Lakewood, CO 80215. EOIs for BLM Colorado solicitations may be emailed to: begruber@blm.gov.

For solicitations by BLM Nevada, hard-copy submission of EOI or Nomination may be mailed to: BLM Nevada State Office, Attention: Greg Helseth, 1340 Financial Blvd., Reno, NV 89502. EOIs for BLM Nevada solicitations may be emailed to: ghelseth@blm.gov.

For solicitations by BLM New Mexico, hard-copy submission of EOI or Nomination may be mailed to: BLM New Mexico State Office, Attention: Sarah Naranjo, 301 Dinosaur Trail, Santa Fe, NM 87508. EOIs for BLM New Mexico solicitations may be emailed to: snaranjo@blm.gov.

FOR FURTHER INFORMATION CONTACT: For more information related to solicitations in this notice by BLM Colorado, please contact Benjamin Gruber, at (303) 239-3923 or begruber@blm.gov; solicitations by BLM Nevada, please contact Greg Helseth, at (775) 861-6477 or ghelseth@blm.gov; and solicitations by BLM New Mexico, please contact Sarah Naranjo, at (505) 954-2200 or snaranjo@blm.gov. People who use a telecommunications device for the deaf (TDD) may call the Federal Relay Service (FRS) at 1-800-877-8339 to contact the above individuals during normal business hours. The FRS is available 24 hours a day, 7 days a week, to leave a message or question. You will receive a reply during normal business hours.

SUPPLEMENTARY INFORMATION: The SEZs being solicited for EOIs or Nominations are listed by name and legally described under the BLM State Office with jurisdiction over those public lands. To be acceptable, an EOI or Nomination must be received (not postmarked) by the BLM State Office of jurisdiction by the specified date in this notice (see DATES) and must include and conform to all requirements under Federal regulations at 43 CFR 2809.11. The BLM will not consider EOIs or Nominations that are incomplete or that do not conform to regulatory requirements. The BLM may reject submissions for cause.

BLM Colorado Solicitation

Antonito Southeast SEZ

The developable area includes 9,712 acres, more or less.

See legal description for the entire SEZ in Public Land Order (PLO) 7818, 78 FR 40501

Federal URL: https://www.federalregister.gov/d/2013-16215/p-262

De Tilla Gulch SEZ

The developable area includes 1,064 acres, more or less.

See legal description for the entire SEZ in Public Land Order (PLO) 7818, 78 FR 40501

https://www.federalregister.gov/d/2013-16215/p-294

Los Mogotes East SEZ

The developable area includes 2,650 acres, more or less.

See legal description for the entire SEZ in Public Land Order (PLO) 7818, 78 FR 40501

https://www.federalregister.gov/d/2013-16215/p-287

BLM Nevada Solicitations

Dry Lake Valley North SEZ

The developable area includes 25,069 acres, more or less.

See legal description for the entire SEZ in Public Land Order (PLO) 7818, 78 FR 40502

https://www.federalregister.gov/d/2013-16215/p-344

Gold Point SEZ

The developable area includes 4,596 acres, more or less.

See legal description for the entire SEZ in Public Land Order (PLO) 7818, 78 FR 40502

https://www.federalregister.gov/d/2013-16215/p-381

Millers SEZ

The developable area includes 16,534 acres, more or less.

See legal description for the entire SEZ in Public Land Order (PLO) 7818, 78 FR 40502

https://www.federalregister.gov/d/2013-16215/p-400

BLM New Mexico Solicitation

Afton SEZ

The developable area includes 29,964 acres, more or less.

See legal description for the entire SEZ in Public Land Order (PLO) 7818, 78 FR 40502

https://www.federalregister.gov/d/2013-16215/p-431

The 2012 Western Solar Plan amended BLM resource management plans (RMPs) to designate SEZs on public land determined to be suitable for utility-scale solar energy development, including the Antonito Southeast SEZ, DeTilla Gulch SEZ, and Los Mogotes East SEZ in the San Luis Valley Public Lands Center RMP (CO); the Dry Lake Valley North SEZ in the Ely RMP (NV); the Gold Point SEZ and the Millers SEZ in the Tonopah RMP (NV); and the Afton SEZ in the Mimbres RMP (NM).

The 2012 Western Solar Plan is available on the BLM website at: https://blmsolar.anl.gov/documents/docs/peis/Solar_PEIS_ROD.pdf.

Additional information for each SEZs listed in this notice is available on the BLM website at: https://blmsolar.anl.gov/sez/.

The BLM will evaluate EOIs and Nominations as provided for in 43 CFR 2809.11 after January 20, 2022. If the BLM receives multiple EOIs or Nominations that overlap or otherwise compete with one another, the BLM may hold a competitive leasing process through a notice of competitive offer in accordance with 43 CFR 2809.13. If no competing EOIs or Nominations are received in a given SEZ, the BLM will presume a future notice of competitive offer, under 43 CFR 2809.13, would receive no bids. As such, if no acceptable EOIs or Nominations for a SEZ are received, and if the authorized officer determines that doing so is in the public interest, the BLM may accept and process non-competitive solar development applications within the areas described in this notice, as provided in 43 CFR 2800 subparts 2803, 2804, and 2805.

(Authority: 43 CFR 2809)

Nicholas Douglas,
Assistant Director of Energy, Minerals, and Realty Management.

[FR Doc. 2021-27515 Filed 12-20-21; 8:45 am]

BILLING CODE 4310-84-P